DEPARTMENT OF COMMERCE

International Trade Administration

[A-570-868]

Folding Metal Tables and Chairs From the People's Republic of China: Notice of Extension of Time Limit for the Preliminary Results of the 2009-2010 Antidumping Duty Administrative and New Shipper Reviews

AGENCY: Import Administration, International Trade Administration, Department of Commerce.

DATES: Effective Date: March 4, 2011.

FOR FURTHER INFORMATION CONTACT: Lilit Astvatsatrian or Charles Riggle, AD/CVD Operations, Office 8, Import Administration, International Trade Administration, U.S. Department of Commerce, 14th Street and Constitution Avenue, NW., Washington, DC 20230; telephone: (202) 482-6412 or (202) 482-0650, respectively.

SUPPLEMENTARY INFORMATION:

Background

On July 28 and 29, 2010, the Department of Commerce (“the Department”) published the initiations of the 2009-2010 administrative review and the new shipper review (“NSR”) of Xinjiamei Furniture Co., Ltd. (“Xinjiamei”), respectively, of the antidumping duty order on folding metal tables and chairs from the People's Republic of China (“PRC”). See Initiation of Antidumping and Countervailing Duty Administrative Reviews and Requests for Revocations in Part, 75 FR 44224 (July 28, 2010) and Folding Metal Tables and Chairs from the People's Republic of China: Initiation of New Shipper Review, 75 FR 44767 (July 29, 2010). These reviews cover the period June 1, 2009, through May 31, 2010. The preliminary results of the administrative review are currently due no later than March 2, 2011.

On February 9, 2011, Xinjiamei agreed to waive the new shipper review time limits and agreed to the alignment of its NSR with the 2009-2010 administrative review. See Letter from Xinjiamei, regarding Waiver of the Time Limits and Request for Alignment, dated February 9, 2011. Therefore, pursuant to section 351.214(j)(3) of the Department's regulations, we have aligned the NSR of Xinjiamei with the 2009-2010 administrative review. Accordingly, the preliminary results for the NSR are also due on March 2, 2011.

Extension of Time Limit for Preliminary Results of Review

Pursuant to section 751(a)(3)(A) of the Tariff Act of 1930, as amended (“the Act”), the Department shall make a preliminary determination in an administrative review of an antidumping duty order within 245 days after the last day of the anniversary month of the date of publication of the order. The Act further provides, however, that the Department may extend that 245-day period to 365 days if it determines it is not practicable to complete the review within the foregoing time period.

The Department finds that it is not practicable to complete the preliminary results of the administrative review and new shipper review of folding metal tables and chairs from the PRC within this time limit. Specifically, additional time is needed to determine the appropriate surrogate country, and surrogate values with which to value factors of production. Moreover, additional time is needed in order that the Department can conduct mandatory verifications and issue verification reports prior to the preliminary results.

Therefore, in accordance with section 751(a)(3)(A) of the Act, the Department is extending the time period for completion of the preliminary results of these reviews, which are currently due on March 2, 2011, by 90 days. Therefore, the preliminary results for the administrative and new shipper reviews are now due no later than May 31, 2011.

This notice is published in accordance with sections 751(a)(3)(A) and 777(i) of the Act.

Dated: February 25, 2011.
Gary Taverman,
Acting Deputy Assistant Secretary for Antidumping and Countervailing Duty Operations.

[FR Doc. 2011-4940 Filed 3-3-11; 8:45 am]

BILLING CODE 3510-DS-P